DEPARTMENT OF TRANSPORTATION

Federal Transit Administration

[FTA Docket No. FTA-2009-0014]

Agency Information Collection Activity Under OMB Review

AGENCY: Federal Transit Administration, DOT.

ACTION: Notice of request for comments.

SUMMARY: The Federal Transit Administration invites public comments about our intention to request the Office of Management and Budget's (OMB's) approval of the following new information collection:

Grant Accrual Surveys of FTA Grantees

The information to be collected is necessary to determine the grantees' average billing cycle for various FTA programs and projects and the amount payable to the grantees at the end of the accounting period. FTA will use the information to calculate a reasonable grant accrual liability estimate that will be included in its financial statements. This will satisfy the requirements of the financial statements audit and the Chief Financial Officer Act.

The Federal Register Notice with a 60-day comment period soliciting comments was published on December 19, 2008.

DATES: Comments must be submitted before April 20, 2009. A comment to OMB is most effective if OMB receives it within 30 days of publication.

FOR FURTHER INFORMATION CONTACT: Sylvia L. Marion, Office of Administration, Office of Management Planning, (202) 366-6680.

SUPPLEMENTARY INFORMATION: Title: The Federal Transit Administration (FTA) administers over 40 programs which include Formula grants, New Starts, Fixed Guideway Modernization and the Bus and Bus Facilities Program. FTA is required to estimate and record accrued liability and expenses in its financial statements for grant expenses incurred but not yet submitted to FTA for reimbursement by grantees. This is required by the Department of Transportation, Office of the Secretary, and the Federal Accounting Standards Advisory Board guidelines. The surveys covered in this request will provide FTA with a means to gather data directly from its grantees. The information obtained from the surveys will be used to assess how FTA estimates the amount owed to its grantees at the end of each accounting period. FTA needs the survey information to meet its Chief Financial Officer's Act financial statement audit requirements. The surveys will be limited to data collections that solicit voluntary opinions and will not involve information that is required by regulations.

Estimated Total Annual Burden: 750 hours.

ADDRESSES: All written comments must refer to the docket number that appears at the top of this document and be submitted to the Office of Information and Regulatory Affairs, Office of Management and Budget, 725-17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: March 13, 2009.
Ann M. Linnertz,
Associate Administrator for Administration.

[FR Doc. E9-5973 Filed 3-18-09; 8:45 am]

BILLING CODE 4910-57-P